DEPARTMENT OF ENERGY

Federal Energy Regulatory Commission

[Project No. 3519-006]

Beaver Valley Power Company; Beaver Valley Power Company, LLC; Notice of Transfer of Exemption

1. By letter filed April 24, 2015,¹ William B. Conway, Jr., Counsel for Enel Green Power North America, Inc. (EGPNA),² informed the Commission that the exemption from licensing for the Patterson Hydro Project, FERC No. 3519, originally issued June 30, 1982,³ has been transferred to Beaver Valley Power Company, LLC, an affiliate of Enel Green Power. The project is located on the Beaver River in Beaver County, Pennsylvania. The transfer of an exemption does not require Commission approval.

¹ Seventeen other exempted projects which are to be transferred were included in the April 24, 2015 letter. These exemptions will be handled under separate proceedings.

² Enel Green Power North America, Inc. is a wholly owned subsidiary of Enel Green Power. Enel Green Power is a well-capitalized publicly traded company.

³ 19 FERC ¶ 62,570, Order Granting Exemption from Licensing of a Small Hydroelectric Project of 5 Megawatts or Less (1982).

2. Beaver Valley Power Company, LLC is now the exemptee of the Patterson Hydro Project, FERC No. 3519. All correspondence should be forwarded to: Beaver Valley Power Company, LLC, c/o Enel Green Power North America, Inc., Attn: General Counsel, 1 Tech Drive, Suite 220, Andover, MA 01810.

Dated: May 18, 2015.
Kimberly D. Bose,
Secretary.

[FR Doc. 2015-12471 Filed 5-21-15; 8:45 am]

BILLING CODE 6717-01-P